SECURITIES AND EXCHANGE COMMISSION

Sunshine Act Meeting

Notice is hereby given that, pursuant to the provisions of the Government in the Sunshine Act, Public Law 94-409, the Securities and Exchange Commission will hold an Open Meeting on Wednesday, March 30, 2016 at 10:00 a.m. in the Auditorium, Room L-002.

The subject matter of the Open Meeting will be:

1. The Commission will consider whether to issue a concept release seeking comment on modernizing certain business and financial disclosure requirements in Regulation S-K.

2. The Commission will consider whether to adopt rules under the Securities Exchange Act of 1934 regarding the business conduct standards for security-based swap dealers and major security-based swap participants.

At times, changes in Commission priorities require alterations in the scheduling of meeting items.

For further information and to ascertain what, if any, matters have been added, deleted, or postponed, please contact: the Office of the Secretary at (202) 551-5400.

Dated: March 23, 2016.
Brent J. Fields,
Secretary.

[FR Doc. 2016-07021 Filed 3-24-16; 4:15 pm]

BILLING CODE 8011-01-P